ENVIRONMENTAL PROTECTION AGENCY

[ER-FRL-8595-6]

Environmental Impacts Statements; Notice of Availability

Responsible Agency: Office of Federal Activities, General Information (202) 564-1399 or http://www.epa.gov/compliance/nepa/.

Weekly receipt of Environmental Impact Statements

Filed 07/13/2009 Through 07/17/2009

Pursuant to 40 CFR 1506.9.

EIS No. 20090244, Draft EIS, BLM, CA, Santa Ana River Wash Land Use Plan Amendment and Land Exchange Project, Proposes to Exchange Land Located within Upper Santa Ana River Wash, for District-Owned Lands in San Bernardino County, CA, Comment Period Ends: 09/08/2009, Contact: Michael Bennett 760-833-7139.

EIS No. 20090245, Draft EIS, FHW, FL, Interstate 395 (I-395) Development and Environment Study Project, From I-95 to West Channel Bridges of the MacArthur Causeway at Biscayne Bay, City of Miami, Miami-Dade County, FL, Comment Period Ends: 09/08/2009, Contact: Linda Anderson 850-942-9650 Ext 3053.

EIS No. 20090246, Draft EIS, AFS, CA, Eddy Gulch Late-Successional Reserve Fuels/Habitat Protection Project, To Protect Late-Successional Habitat used by the Northern Spotted Owl and Other Late-Successional-Dependent Species, Salmon River and Scott River Ranger District, Klamath National Forest, Siskiyou County, CA, Comment Period Ends: 09/08/2009, Contact: Connie Hendryx 530-468-1281.

EIS No. 20090247, Draft EIS, NOA, 00, Comprehensive Ecosystem-Base Amendment 1 (CE-BA 1) for the South Atlantic Region, Implementation,, Comment Period Ends: 09/08/2009, Contact: Roy E. Crabtree, PhD 727-824-5305.

EIS No. 20090248, Final EIS, AFS, OR, Farley Vegetation Management Project, To Conduct Timber Harvest Commercial and Non-Commercial Thinning, Fuels Treatment Prescribed Burning and Reforestation, Desolation Creek, North Fork John Day Ranger District, Umatilla National Forest, Grant County, OR, Wait Period Ends: 08/24/2009, Contact: Janel McCurdy 541-278-3869.

EIS No. 20090249, Draft EIS, NOA, 00, Amendment 3 to the 2006 Consolidated Atlantic Highly Migratory Species (HMS), Fishery Management Plan, To Implement Management Measures that Prevent Overfishing and Rebuild Overfished Stocks, Implementation, Comment Period Ends: 09/21/2009, Contact: Margo Schulze-Haugen 301-713-2347.

Amended Notices

EIS No. 20090134, Draft EIS, COE, CA, Newhall Ranch Resource Management and Development Plan (RMDP) and the Spineflower Conservation Plan (SCP), Implementation, Portion of Santa Clara River Valley, Los Angeles County, CA, Comment Period Ends: 08/25/2009, Contact: Aaron O. Allen 805-585-2154.

Revision to FR Notice Published 05/01/2009: Extending Comment Period from 06/29/2009 to 08/25/2009.

EIS No. 20090177, Draft EIS, AFS, CA, Lassen National Forest, Motorized Travel Management Plan, Implementation, Butte, Lassen, Modoc, Plumas, Shasta, Siskiyou, Tehama Counties, CA, Comment Period Ends: 07/31/2009, Contact: Christopher O'Brien 530-257-2151. Revision of FR Notice Published on 06/05/2009; Comment Review Period extended from 7/20/2009 to 7/31/2009.

EIS No. 20090181, Draft EIS, AFS, CA, Lower Trinity and Mad River Motorized Travel Management, Proposed to Prohibit Cross-County Motor Vehicle Travel Off Designated National Forest Transportation System (NFTS) Roads and Motorized Trails, Six River National Forest, CA, Comment Period Ends: 08/04/2009, Contact: Leslie Burkhart 707-441-3520 Revision to FR Notice Published 06/05/2009: Extending Comment Period from 07/20/2009 to 08/04/2009.

Dated: July 21, 2009.
Robert W. Hargrove,
Director, NEPA Compliance Division, Office of Federal Activities.

[FR Doc. E9-17703 Filed 7-23-09; 8:45 am]

BILLING CODE 6560-50-P